SOCIAL SECURITY ADMINISTRATION

[Docket No: SSA-2022-0068]

Agency Information Collection Activities: Comment Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0068].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2022-0068].

SSA submitted the information collection below to OMB for clearance. Your comments regarding this information collection would be most useful if OMB and SSA receive them 30 days from the date of this publication. To be sure we consider your comments, we must receive them no later than February 10, 2023. Individuals can obtain copies of this OMB clearance package by writing to OR.Reports.Clearance@ssa.gov.

Privacy and Disclosure of Official Records and Information; Availability of Information and Records to the Public—20 CFR 401.40(b)&(c), 401.45, 401.55(b), 401.65(a), 401.100(a)&(b), 402.130, 402.185—0960-0566.

Under the Privacy and Disclosure of Official Records and Information regulations, SSA has established methods in which the public can consent to and authorize the release of records protected under the Privacy Act of 1974, 5 U.S.C. 552a of the United States Code, and request records accessible through the Freedom of Information Act (FOIA), 5 U.S.C. 552.

Consent for Release of Records

SSA obtains the required consent(s) (with certain exceptions specified by law) from anyone requesting information in SSA systems of records about another individual. We will not release information requested about an individual until we obtain the required consent from that individual. Under the Privacy Act of 1974 (5 U.S.C. 552a(b)), individuals may give SSA written consent to disclose their personal information to a third party of their choosing. In addition, individuals may have multiple needs for the disclosure of their personal information, such as for qualification for a mortgage or preemployment screenings.

a. Form SSA-3288 (Consent for Release of Information): Form SSA-3288, is SSA's preferred paper form for requests for disclosure of information based on the consent of the subject of the record. Respondents can download the SSA-3288 from ssa.gov/forms, obtain a copy at a local SSA field office, or request SSA mail a copy to them directly. Use of this form ensures compliance with SSA consent regulations at 20 CFR 401.100. SSA also collects consent on other writings, including non-SSA forms often used by large employers, that incorporate SSA-approved consent language.

b. Form SSA-3288-OP1 (Consent for Disclosure of Records Protected Under the Privacy Act): The Form SSA-3288-OP1 will comply with the CASES Act, OMB M-21-04, and SSA consent regulations at 20 CFR 401.100.

The CASES Act directed OMB to develop templates for, among other things, electronic consents for SSA to disclose records protected by the Privacy Act of 1974 to third parties. OMB implemented that statutory directive in memorandum M-21-04. SSA developed the SSA-3288-OP pursuant to the CASES Act and M-21-04. The public will access the webform application that populates Form SSA-3288-OP1 on the internet by selecting the “Electronic Request for Consent to Disclose” link which will be posted at www.ssa.gov/privacy.

The respondents are individuals consenting to, authorizing, and requesting SSA disclosure of records protected by the Privacy Act of 1974 to third parties.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
a. Amendment of Records | 100 | 1 | 10 | 17 | * $28.01 | ** 24 | *** $1,547
b. Consent for Release of Information (SSA-3288) + | 2,960,419 | 1 | 5 | 246,702 | * 28.01 | ** 24 | *** 40,078,669
c. Consent for Release of Records (Electronic SSA-3288-OP1) + | 40,341 | 1 | 10 | 6,724 | * 28.01 | ** 24 | *** 640,309
Totals | 3,000,860 |  |  | 253,443 |  |  | *** 40,720,525
+ The number of respondents for this modality is an estimate based on google analytics data for the SSA-3288 form downloads from SSA.Gov.
* We based this figure on average U.S. worker's hourly wages, as reported by Bureau of Labor Statistics data https://www.bls.gov/oes/current/oes_nat.htm.
** We based this figure on the average FY 2022 wait times for field offices, based on SSA's current management information data.
*** This figure does not represent actual costs that SSA is imposing on recipients of Social Security payments to complete this application; rather, these are theoretical opportunity costs for the additional time respondents will spend to complete the application. There is no actual charge to respondents to complete the application.

Dated: January 5, 2023.
Naomi Sipple,
Reports Clearance Officer, Social Security Administration.

[FR Doc. 2023-00315 Filed 1-10-23; 8:45 am]

BILLING CODE 4191-02-P